DEPARTMENT OF EDUCATION

34 CFR Parts 400, 401, 402, 403, 406, 410, 411, and 413

[Docket ID ED-2018-OCTAE-0129]

RIN 1830-AA23

Program Regulations Superseded by Reauthorizations of the Perkins Act

AGENCY: Office of Career, Technical, and Adult Education, Department of Education.

ACTION: Final regulations.

SUMMARY: The Secretary removes outdated and superseded regulations for eight programs in the State Vocational and Applied Technology Education Programs and National Discretionary Programs of Vocational Education as authorized under the Carl D. Perkins Vocational and Applied Technology Act of 1990 (Perkins II). The eight programs are: The Career, Technical and Applied Technology Education Programs—General Provisions, the Indian Vocational Education Program, the Native Hawaiian Vocational Education Program, the State Vocational and Applied Technology Education Program, the State-Administered Tech-Prep Education Program, the Tribally Controlled Postsecondary Vocational Institutions Program, the Vocational Education Research Program, and the National Center or Centers for Research in Vocational Education (the eight programs). These program regulations are outdated with the exception of certain regulations under the Indian Vocational Education Program.

DATES: These regulations are effective March 4, 2019.

FOR FURTHER INFORMATION CONTACT: Hugh Reid, U.S. Department of Education, 400 Maryland Avenue SW, Room 11114 PCP, Washington, DC 20202-2500. Telephone: (202) 245-7491. Email: Hugh.Reid@ed.gov.

If you use a telecommunications device for the deaf (TDD) or a text telephone (TTY), call the Federal Relay Service (FRS), toll free at 1-800-877-8339.

SUPPLEMENTARY INFORMATION: On February 24, 2017, President Trump signed Executive Order 13777, “Enforcing the Regulatory Reform Agenda,” which established a Federal policy “to alleviate unnecessary regulatory burdens” on the American people. Section 3(a) of the Executive Order directed each Federal agency to establish a regulatory reform task force, the duty of which is to evaluate existing regulations and “make recommendations to the agency head regarding their repeal, replacement, or modification.” Accordingly, the Secretary removes 34 CFR part 400, §§ 401.1-401.22 and 401.30 and 401.31, and parts 402, 403, 406, 410, 411 and 413, published in the Federal Register on August 14, 1992 (57 FR 36720) (Perkins 1992 Regulations), because they are outdated due to the reauthorization of the Perkins Act by subsequent reauthorizations and changes to the Perkins Act. The program regulations we are removing are:

The eight programs | Perkins 1992 regulations to be removed—34 CFR part(s) | Perkins II authorities 20 U.S.C. | Program type
Career, Technical, and Applied Technology Education Programs—General Provisions | 400 (57 FR 36724, Aug. 14, 1992) | 20 U.S.C. 2301 et seq., unless otherwise noted | State-Administered.
Indian Vocational Education Program | 401.1-401.22 and 401.30 and 401.31 (57 FR 36730, Aug. 14, 1992) | 20 U.S.C. 2313(b), unless otherwise noted | National Discretionary.
Native Hawaiian Vocational Education Program | 402 (57 FR 36733, Aug. 14, 1992) | 20 U.S.C. 2313(c), unless otherwise noted | National Discretionary.
State Vocational and Applied Technology Education Program | 403 (57 FR 36735, Aug. 14, 1992) | 20 U.S.C. 2301 et seq., unless otherwise noted | National Discretionary.
State-Administered Tech-Prep Education Program | 406 (57 FR 36763, Aug. 14, 1992) | 20 U.S.C. 2394-2394e, unless otherwise noted | State-Administered.
Tribally Controlled Postsecondary Vocational Institutions Program | 410 (57 FR 36773, Aug. 14, 1992) | 20 U.S.C. 2397-2397h, unless otherwise noted | National Discretionary.
Vocational Education Research Program | 411 (57 FR 36776, Aug. 14, 1992) | 20 U.S.C. 2401 and 2402, unless otherwise noted | National Discretionary.
National Center or Centers for Research in Vocational Education | 413 (57 FR 36780, Aug. 14, 1992) | 20 U.S.C. 2404, unless otherwise noted | National Discretionary.

The State-Administered Tech-Prep Education Program was not re-authorized in the Strengthening Career and Technical Education for the 21st Century Act (Perkins V) that was signed on July 31, 2018, and takes effect July 1, 2019. As such, we are removing the related regulations in 34 CFR part 406. Generally, the regulations for the other seven programs listed in the above chart are outdated due to the passage of the Carl D. Perkins Vocational and Technical Education Act of 1998 (Perkins III). These seven programs were updated in Perkins III and subsequently in the Carl D. Perkins Career and Technical Education Act of 2006 (Perkins IV) and Perkins V. However, the regulations related to these seven programs, have not been updated to reflect statutory changes in Perkins III-V, so we are removing those regulations. Although the statutory authority still exists for these seven program (not including The State-Administered Tech-Prep Education Program, which was not re-authorized), the regulations are outdated and do not reflect the most current statutory language. Therefore, we are removing those regulations, with the exception of 34 CFR 401.1 (formerly 401.23), which still applies to the Native American Career and Technical Education Program (NACTEP).

The requirements in 34 CFR 401.1 (formerly 401.23), regarding the Secretary's decision not to make an award under the Indian Vocational Education Program (now NACTEP) subject to a hearing, are not outdated. NACTEP is one of the successor programs to the Indian Vocational Education Program, and was established in Perkins IV.

34 CFR Part 400—Vocational and Applied Technology Education Programs—General Provisions

The purpose of the Vocational and Applied Technology Education Programs was to make the United States more competitive in the world economy by developing more fully the academic and occupational skills of all segments of the population, and the purpose would be achieved principally through concentrating resources on improving educational programs leading to academic and occupational skill competencies needed to work in a technologically advanced society.

This Perkins II regulation provided such general program provisions as the following:

(1) Purposes, which aligned with the purposes in Sec. 2 of Perkins II and were superseded by the purposes of Sec. 2 of Perkins III and subsequently by Sec. 2 of Perkins IV and Perkins V, respectively.

(2) Definitions, which aligned with the definitions in Secs. 232(d), 347, 371, 390, and 521 of Perkins II, and were superseded by the definitions in Sec. 3 of Perkins III; and subsequently by the definitions in Sec. 3 of Perkins IV, and Perkins V, respectively.

(3) Conditions for which funds under the Perkins Act were to be used for the joint funding of programs, which aligned with joint funding requirements in Sec. 511 of Perkins II, and were superseded by the joint funding requirements in Sec. 321 of Perkins III. Those requirements were subsequently superseded by Sec. 321 of Perkins IV, and Sec. 221 of Perkins V.

(4) Requirements for establishing the State Committee of Practitioners (Committee), aligned with Sec. 115 of Perkins II, which further clarified the State board convene the Committee on a regular basis to review, comment on, and propose revisions on a draft State proposal that the State board developed for a system of core standards and measures of performance for vocational programs. Perkins III did not include a requirement for establishing the Committee, and superseded that requirement in Sec. 113(b) indicating that each eligible agency, with input from eligible recipients, shall establish performance measures for a State. That requirement for establishing performance measures for a State with input from eligible recipients was subsequently superseded in Sec. 113(b) of Perkins IV, which was reauthorized in Perkins V.

(5) Governing student assistance, aligned with Sec. 507 of Perkins II regarding student assistance costs and was superseded by the requirement for student assistance costs in Sec. 325 of Perkins III. The requirement regarding student assistance costs was subsequently superseded by Sec. 324 of Perkins IV and Sec. 224 of Perkins V.

34 CFR Part 401—Indian Vocational Education Program

The purpose of the Indian Vocational Education Program was to provide financial assistance to projects that provide vocational education for the benefit of Indians. The regulations provided such general provisions as the definitions relative to the program, eligibility for a program award, and what activities could be funded. In addition, the regulations specified how one applied for an award, how the Secretary made the award, and what conditions must be met after the award. The regulations aligned with Sec. 103 of Perkins II, which provided directions to the Secretary to enter into grants with eligible applicants. Sec. 103 of Perkins II was updated by Perkins III, Sec. 116—Native American programs, under which grants were awarded under the Native American Vocational and Technical Education program. The requirements were subsequently updated by Perkins IV, Sec. 116—Native American programs, under which grants were awarded for NACTEP. Recently, Perkins V Sec. 116—Native American programs, also made minor revisions and updates to the NACTEP program. Although there have been minor revisions and updates under each reauthorization of the Perkins Act regarding some of the program requirements, the program purpose and administration supporting grants to improve CTE programs that benefit Native Americans has remained the same.

Title 34 CFR 401.1 (formerly 401.23) remains in effect, as it contains the requirements for when an applicant requests a hearing in response to the Secretary's decision not to make an award under the Indian Vocational Education Program, as reauthorized (as NACTEP) under Sec. 116(b)(2) of Perkins V. The Secretary continues to implement the appeal process at the request of any applicant denied funding under the NACTEP competition in accordance with the procedures set forth in 34 CFR 401.1 (formerly 401.23) (see 83 FR 5076, 5079 at: https://www.govinfo.gov/content/pkg/FR-2018-02-05/pdf/2018-02246.pdf). In accordance with those procedures, any applicant denied funding has 30 calendar days to make a written request to the Secretary for a hearing to review the Secretary's decision (25 U.S.C. 5321(b)). We have also made the following technical revisions to § 401.1 (formerly § 401.23): (1) Replaced “Indian Vocational Education Program” with “Native American Career and Technical Education Program” in the title; (2) deleted reference to 34 CFR 401.2(a)(1), as this has been removed; and (3) replaced reference to “Office of Vocational and Adult Education” with “Office of Career, Technical, and Adult Education”.

34 CFR Part 402—Native Hawaiian Vocational Education Program

The purpose of the Native Hawaiian Vocational Education Program was to provide financial assistance to projects responsible for vocational training and related activities for the benefit of native Hawaiians. This regulation provided such general provisions as the definitions relative to the program, eligibility for a program award, and what activities could be funded. In addition, the regulation specified how the Secretary made the award and what conditions must be met by a grantee after the award. This regulation aligned with Sec. 103 of Perkins II, which provided directions to the Secretary to enter into grants with eligible applicants. Sec. 103 of Perkins II was updated by Perkins III, Sec. 116—Native American programs, under which grants were awarded for the Native Hawaiian Vocational and Technical Education program. The requirement in Perkins III was subsequently updated by Sec. 116—Native American programs of Perkins IV, under which grants were awarded for the Native Hawaiian Career and Technical Education program, and was also superseded by Perkins V Sec. 116—Native American programs. Specifically, in Sec. 116(h) of Perkins III, and subsequently in Sec. 116(h) of Perkins IV and Perkins V, it was clarified that grants to plan, conduct, and administer programs, or portions thereof that are consistent with the purposes of section 116 of each Act, were for the benefit of Native Hawaiians.

34 CFR Part 403—State Vocational and Applied Technology Education Program

The purpose of the State Vocational and Applied Technology Education Program was for the Secretary to assist States, local educational agencies, postsecondary educational institutions, and other agencies and institutions to administer and conduct vocational education programs that were authorized by Perkins II. The requirements in the Perkins II regulations for the State Vocational and Applied Technology Education Program aligned with Title I—Vocational Education Assistance to the States in Perkins II, Part A—Allotment and Allocation and Part B—State Organizational and Planning Responsibilities. The Perkins II requirements were superseded by requirements under Perkins III, Title I—Vocational and Technical Education Assistance to the States—Part A—Allotment and Allocation, Part B—State Provisions and Part C—Local Provisions. The Perkins III requirements were subsequently superseded by requirements in Title I—Career and Technical Education Assistance to the States Part A—Allotment and Allocation, Part B—State Provisions and Part C—Local Provisions under both Perkins IV and Perkins V.

34 CFR Part 406—State-Administered Tech-Prep Education Program

The purposes of the Tech-Prep Education Program were to: (1) Plan for and develop four-year or six-year programs designed to provide a tech-prep education program leading to a two-year associate degree or certificate; and (2) plan and develop comprehensive links between secondary schools and postsecondary educational institutions. The requirements in the Perkins II regulations for the State-Administered Tech-Prep Education Program aligned with Title III, Part E—Tech-Prep Education. The Perkins II requirements were superseded by Title II—Tech-Prep Education under Perkins III and Perkins IV, respectively. Beginning in fiscal year 2010, Federal appropriations for Title II—Tech-Prep Education under Perkins IV ceased, and Perkins V did not authorize the program.

34 CFR Part 410—Tribally Controlled Postsecondary Vocational Institutions Program

The purpose of the Tribally Controlled Postsecondary Vocational Institutions Program was to provide grants for the operation and improvement of tribally controlled postsecondary vocational institutions in order to continue and expand educational opportunities for Indian students, and improve and expand the physical resources of those institutions. This regulation provided such general provisions as the definitions relative to the program, eligibility for a program award, and what activities could be funded. In addition, the regulation specified how the Secretary made the award and what conditions must be met after the award. This regulation aligned with Perkins II, Title III—Special Programs—Part H—Tribally Controlled Postsecondary Vocational Institutions. The requirements in Perkins II were updated by Perkins III, Sec. 117—Tribally Controlled Postsecondary Vocational Institutions, and subsequently updated by Sec. 117—Tribally Controlled Postsecondary Career and Technical Institutions of Perkins IV and Perkins V.

34 CFR Part 411—Vocational Education Research Program

The purpose of the Vocational Education Research Program was to: (1) Improve access to vocational educational programs for individuals with disabilities, individuals who were disadvantaged, men and women who were entering nontraditional occupations, adults who were in need of retraining, single parents, displaced homemakers, single pregnant women, individuals with limited English proficiency, and individuals who were incarcerated in correctional institutions; (2) support research and development activities that make the United States competitive in the world economy; (3) improve the competitive process by which research projects were awarded; (4) support the dissemination of findings of research related to Department-funded projects; and (5) support research activities that were readily applicable to the vocational education setting. This regulation indicated how the Secretary made an award, and was aligned with Sec. 402—Research Objectives and Sec. 403—Research Activities of Perkins II. The requirements in Perkins II was superseded by Perkins III, Sec. 114(c)—Research, Development, Dissemination, Evaluation and Assessment, which indicated that the Secretary through grants, contracts, or cooperative agreements, carry out research, development, dissemination, evaluation and assessment, capacity building, and technical assistance with regard to vocational and technical education programs. Sec. 114(c) of Perkins III was subsequently superseded by Perkins IV and Perkins V, Sec. 114(c)—Single Plan for Research, Development, Dissemination, Evaluation, and Assessment. That section indicated that the Secretary may directly, or through grants, contracts, or cooperative agreements, carry out research, development, dissemination, evaluation and assessment, capacity building, and technical assistance with regard to career and technical education programs.

34 CFR Part 413—National Center or Centers for Research in Vocational Education

The purpose of the National Centers for Research in Vocational Education was to support: (1) Applied research; and (2) development and dissemination and training for vocational education. This regulation provided such general provisions as the definitions relative to the program, eligibility for a program award, and what activities could be funded. In addition, the regulation specified how the Secretary made the award and what conditions must be met after the award. The regulation aligned with Perkins II, Sec. 404—National Center or Centers for Research in Vocational Education. This Perkins II section was superseded by Sec. 114(c)(5) of Perkins III, which established the requirements for a national research center or centers, and was subsequently superseded by the requirements in Sec. 114(d)(4) of Perkins IV to establish a national research center. The Perkins IV, Sec. 114(d)(4) requirements were superseded by Sec. 114(d)(4) of Perkins V, which requires that the Secretary, after consultation with the Director of the Institute of Education Sciences, the Commissioner for Education Research, and the States, to award a grant, contract, or cooperative agreement, to carry out research activities.

Waiver of Proposed Rulemaking

Under the Administrative Procedures Act (5 U.S.C. 553) (APA), the Department generally offers interested parties the opportunity to comment on proposed regulations. However, the APA provides that an agency is not required to conduct notice-and-comment rulemaking when the agency, for good cause, finds that the requirement is impracticable, unnecessary, or contrary to the public interest (5 U.S.C. 553(b)(B) and (d)(3)). There is good cause to waive rulemaking in this case because this final regulatory action merely removes regulations that are superseded by statute and, therefore, outdated and unnecessary. This regulatory action adopts no new regulations and does not establish or affect substantive policy. Therefore, under 5 U.S.C. 553(b)(B), the Secretary has determined that proposed regulations are unnecessary, and, thus, waives notice and comment rulemaking.

The APA also requires that regulations be published at least 30 days before their effective date, unless the agency has good cause to implement its regulations sooner (5 U.S.C. 553(d)(3)). Because the final regulations merely reflect statutory changes and remove outdated or unnecessary regulatory provisions, the Secretary has good cause to waive the 30-day delay in the effective date of these regulatory changes under 5 U.S.C. 553(d)(3).

Executive Orders 12866, 13563, and 13771

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This regulatory action is not a significant regulatory action subject to review by OMB under section 3(f) of Executive Order 12866.

Under Executive Order 13771, for each new regulation that the Department proposes for notice and comment or otherwise promulgates that is a significant regulatory action under Executive Order 12866, it must identify two deregulatory actions. For FY 2019, no regulations exceeding the agency's total incremental cost allowance will be permitted. These regulations are a deregulatory action under E.O. 13771 and therefore the two-for-one requirements of E.O. 13771 do not apply.

We have also reviewed these regulations under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor their regulations to impose the least burden on society, consistent with obtaining regulatory objectives and taking into account—among other things, and to the extent practicable—the costs of cumulative regulations;

(3) In choosing among alternative regulatory approaches, select those approaches that maximize net benefits (including potential economic, environmental, public health and safety, and other advantages; distributive impacts; and equity);

(4) To the extent feasible, specify performance objectives, rather than specifying the behavior or manner of compliance that regulated entities must adopt; and

(5) Identify and assess available alternatives to direct regulation, including providing economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this regulatory action only upon a reasoned determination that its benefits justify its costs. In choosing among alternative regulatory approaches, we selected the approach that maximizes net benefits. Based on the analysis that follows, the Department believes that these regulations are consistent with the principles in Executive Order 13563.

We also have determined that this regulatory action would not unduly interfere with State, local, and Tribal governments in the exercise of their governmental functions.

Need for the Regulatory Action

This regulatory action is necessary to comply with Executive Order 13777 and to remove outdated and superseded regulations from the Code of Federal Regulations.

Analysis of Costs and Benefits

This regulatory action is a benefit to the public, grant recipients, and the Department as the action will remove any confusion that might be caused by maintaining outdated and superseded regulations in the CFR.

The Department has also analyzed the costs of this regulatory action and has determined that it will impose no additional costs. As detailed earlier, this regulatory action removes outdated and superseded regulations for eight programs.

Regulatory Flexibility Act Certification

Pursuant to 5 U.S.C. 601(2), the Regulatory Flexibility Act applies only to rules for which an agency publishes a general notice of proposed rulemaking. The Regulatory Flexibility Act does not apply to this rulemaking because there is good cause to waive notice and comment under 5 U.S.C. 553.

Paperwork Reduction Act of 1995

This rule does not contain any new information collection requirements. The information collection OMB Control Number 1830-0503, active during the Perkins II regulations with an annual cost to the Federal Government of $94,160, expired March 31, 2010. The only previously OMB-approved information collection under the Perkins II regulations that has been renewed, updated, and remains currently active is OMB Control Number 1830-0029. This information is used for the Perkins State Plan Guide and expires on September 30, 2019.

Intergovernmental Review

Some of these programs are subject to Executive Order 12372 and the regulations in 34 CFR part 79. One of the objectives of the Executive order is to foster an intergovernmental partnership and a strengthened federalism. The Executive order relies on processes developed by State and local governments for coordination and review of proposed Federal financial assistance.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations at: www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

List of Subjects

34 CFR Part 400

Accounting, Administrative practice and procedure, Adult education, Aged, Agriculture, American Samoa, Bilingual education, Blind, Business and industry, Civil rights, Colleges and universities, Communications, Community development, Community facilities, Copyright, Credit, Cultural exchange programs, Educational facilities, Educational research, Education, Education of disadvantaged, Education of individuals with disabilities; Educational study programs, Electric power, Electric power rates, Electric utilities, Elementary and secondary education, Energy conservation, Equal educational opportunity, Federally affected areas, Government contracts, Grant programs, Grant programs—agriculture, Grant programs—business, Grant programs—communications, Grant programs—education, Grant programs—energy, Grant programs—health, Grant programs—housing and community development, Grant programs—social programs, Grants administration, Guam, Home improvement, Homeless, Hospitals, Housing, Human research subjects, Indians, Indians—education, Infants and children, Insurance, Intergovernmental relations, International organizations, Inventions and patents, Loan programs, Loan programs—social programs, Loan programs—agriculture, Loan programs—business, Loan programs—communications, Loan programs—energy, Loan programs—health, Loan programs—housing and community development, Manpower training programs, Migrant labor, Mortgage insurance, Nonprofit organizations, Northern Mariana Islands, Pacific Islands Trust Territories, Privacy, Renewable energy, Reporting and recordkeeping requirements, Rural areas, Scholarships and fellowships, School construction, Schools, Science and technology, Securities, Small businesses, State and local governments, Student aid, Teachers, Telecommunications, Telephone, Urban areas, Veterans, Virgin Islands, Vocational education, Vocational rehabilitation, Waste treatment and disposal, Water pollution control, Water resources, Water supply, Watersheds, Women.

34 CFR Part 401

Administrative practice and procedure, Grant programs—education, Grant programs—Indians, Indians—education, Reporting and recordkeeping requirements, Vocational education.

34 CFR Part 402

Grant programs—education, Hawaiian Natives, Reporting and recordkeeping requirements, Vocational education.

34 CFR Part 403

Business and industry, Colleges and universities, Elementary and secondary education, Grant programs—education, Prisoners, Reporting and recordkeeping requirements, Sex discrimination, Vocational education, Women.

34 CFR Part 406

Colleges and universities, Elementary and secondary education, Grant programs—education, Reporting and recordkeeping requirements, Vocational education.

34 CFR Part 410

Grant programs—education, Grant programs—Indians, Indians—education, Reporting and recordkeeping requirements, Vocational education.

34 CFR Part 411

Education of disadvantaged, Education of individuals with disabilities, Educational research, Grant programs—education, Prisoners, Reporting and recordkeeping requirements, Vocational education, Women.

34 CFR Part 413

Colleges and universities, Educational research, Grant programs—education, Reporting and recordkeeping requirements, Vocational education.

Dated: February 26, 2019.
Scott Stump,
Assistant Secretary for Career, Technical, and Adult Education.

For the reasons discussed in the preamble, and under the authority of section 414 of the Department of Education Organization Act, 20 U.S.C. 3474, and section 437 of the General Education Provisions Act (20 U.S.C. 1221e-3), the Secretary of Education amends chapter IV of title 34 of the Code of Federal Regulations as follows:

PART 400—[Removed and Reserved]

1. Part 400 is removed and reserved.

PART 401—NATIVE AMERICAN CAREER AND TECHNICAL EDUCATION PROGRAM

2. Revise the authority citation for part 401 to read as follows:

Authority: 20 U.S.C. 2313(b), 25 U.S.C. 5321.

3. The heading of part 401 is revised to read as set forth above.

§ 401.1 [Removed]

4. Remove § 401.1.

§ 401.23 [Redesignated as § 401.1 and Amended]

5. Redesignate § 401.23 as § 401.1 and revise newly redesignated § 401.1 to read as follows:

§ 401.1 Is the Secretary's decision not to make an award under the Native American Career and Technical Education Program subject to a hearing?

(a) After receiving written notice from an authorized official of the Department that the Secretary will not award a grant or cooperative agreement to an eligible applicant, an Indian tribal organization has 30 calendar days to make a written request to the Secretary for a hearing to review the Secretary's decision.

(b) Within 10 business days of the Department's receipt of a hearing request, the Secretary designates a Department employee who is not assigned to the Office of Career, Technical, and Adult Education to serve as a hearing officer. The hearing officer conducts a hearing and issues a written decision within 75 calendar days of the Department's receipt of the hearing request. The hearing officer establishes rules for the conduct of the hearing. The hearing officer conducts the hearing solely on the basis of written submissions unless the officer determines, in accordance with standards in 34 CFR 81.6(b), that oral argument or testimony is necessary.

(c) The Secretary does not make any award under this part to an Indian tribal organization until the hearing officer issues a written decision on any appeal brought under this section.

§§ 401.2, 401.3, 401.4, and 401.5 [Removed and Reserved]

6. Remove and reserve §§ 401.2, 401.3, 401.4, and 401.5.

§§ 401.10, 401.20, 401.21, 401.22, 401.30, and 401.31 [Removed]

7. Remove §§ 401.10, 401.20, 401.21, 401.22, 401.30, and 401.31.

PART 402—[Removed and Reserved]

8. Part 402 is removed and reserved.

PART 403—[Removed and Reserved]

9. Part 403 is removed and reserved.

PART 406—[Removed and Reserved]

10. Part 406 is removed and reserved.

PART 410—[Removed and Reserved]

11. Part 410 is removed and reserved.

PART 411—[Removed and Reserved]

12. Part 411 is removed and reserved.

PART 413—[Removed and Reserved]

13. Part 413 is removed and reserved.

[FR Doc. 2019-03661 Filed 3-1-19; 8:45 am]

BILLING CODE 4000-01-P